DEPARTMENT OF ENERGY

Federal Energy Regulatory Commission

Combined Notice of Filings

Take notice that the Commission has received the following Natural Gas Pipeline Rate and Refund Report filings:

Filings Instituting Proceedings

Docket Numbers: RP13-1233-000.

Applicants: Carolina Gas Transmission Corporation.

Description: Carolina Gas Transmission Corporation submits tariff filing per 154.203: ACA Compliance Filing to be effective 10/1/2013.

Filed Date: 8/8/13.

Accession Number: 20130808-5059.

Comments Due: 5 p.m. ET 8/20/13.

Docket Numbers: RP13-1234-000.

Applicants: Kern River Gas Transmission Company.

Description: Kern River Gas Transmission Company submits tariff filing per 154.204: 2013 Revisions to IT Agreements to be effective 9/8/2013.

Filed Date: 8/8/13.

Accession Number: 20130808-5074.

Comments Due: 5 p.m. ET 8/20/13.

Docket Numbers: RP13-1235-000.

Applicants: Natural Gas Pipeline Company of America.

Description: Amendment Filing—Renaissance Negotiated Rate LPS RO to be effective 8/8/2013.

Filed Date: 8/8/13.

Accession Number: 20130808-5110.

Comments Due: 5 p.m. ET 8/20/13.

Docket Numbers: RP13-1236-000.

Applicants: Natural Gas Pipeline Company of America.

Description: Amendment Filing—NJR Negotiated Rate LPS RO to be effective 8/8/2013.

Filed Date: 8/8/13.

Accession Number: 20130808-5125.

Comments Due: 5 p.m. ET 8/20/13.

Docket Numbers: RP13-1237-000.

Applicants: Natural Gas Pipeline Company of America.

Description: Amendment Filing—Castleton Negotiated Rate LPS RO to be effective 8/8/2013.

Filed Date: 8/8/13.

Accession Number: 20130808-5151.

Comments Due: 5 p.m. ET 8/20/13.

Docket Numbers: RP13-1238-000.

Applicants: Midcontinent Express Pipeline LLC.

Description: Quicksilver Negotiated Rate to be effective 8/10/2013 under RP13-1238.

Filed Date: 8/8/13.

Accession Number: 20130808-5172.

Comments Due: 5 p.m. ET 8/20/13.

Docket Numbers: RP13-1239-000.

Applicants: Venice Gathering System, L.L.C.

Description: Order No. 776 Compliance Filing (ACA Unit Surcharge) to be effective 10/1/2013.

Filed Date: 8/8/13.

Accession Number: 20130808-5182.

Comments Due: 5 p.m. ET 8/20/13.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP13-1069-001.

Applicants: Rockies Express Pipeline LLC.

Description: Compliance to Neg Rate Filing RP13-1069 to be effective 7/12/2013.

Filed Date: 8/8/13.

Accession Number: 20130808-5171.

Comments Due: 5 p.m. ET 8/20/13.

Docket Numbers: RP13-1222-001.

Applicants: Millennium Pipeline Company, LLC.

Description: ACA 2013 Errata to be effective 10/1/2013.

Filed Date: 8/8/13.

Accession Number: 20130808-5169.

Comments Due: 5 p.m. ET 8/20/13.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2013.
Nathaniel J. Davis, Sr.,
Deputy Secretary.

[FR Doc. 2013-20133 Filed 8-16-13; 8:45 am]

BILLING CODE 6717-01-P